DEPARTMENT OF COMMERCE

Foreign-Trade Zones Board

[B-26-2024]

Foreign-Trade Zone (FTZ) 64; Notification of Proposed Production Activity; USA Big Mountain Paper Inc.; (Disposable Diapers/Underwear/Pads and Wet Wipes); Jacksonville, Florida

USA Big Mountain Paper Inc. submitted a notification of proposed production activity to the FTZ Board (the Board) for its facility in Jacksonville, Florida within FTZ 64. The notification conforming to the requirements of the Board's regulations (15 CFR 400.22) was received on May 20, 2024.

Pursuant to 15 CFR 400.14(b), FTZ production activity would be limited to the specific foreign-status material(s)/component(s) and specific finished product(s) described in the submitted notification (summarized below) and subsequently authorized by the Board. The benefits that may stem from conducting production activity under FTZ procedures are explained in the background section of the Board's website—accessible via www.trade.gov/ftz.

The proposed finished products include disposable diapers/absorbent underwear/absorbent pads and personal cleansing wet wipes (duty free).

The proposed foreign-status materials/components include: non-woven fabric of polypropylene; non-woven fabric of polypropylene and Spandex; polyethylene film; biaxially-oriented polypropylene film; low-density polyethylene bags; adhesive polypropylene tape with Velcro; adhesive polypropylene tape; tissue paper; Spandex fiber (of polyurethane); hot melt glue; super absorbent polymer: absorbent polyacrylate granules mixed with paper pulp; super absorbent polymer paper: a sheet of paper pulp with integrated polyacrylate polymer in granule form; corrugated paper cartons; adhesive polyethylene strips and tapes used in packaging; and, paper labels (duty rate ranges from duty-free to 8%). The request indicates that certain materials/components are subject to duties under section 301 of the Trade Act of 1974 (section 301), depending on the country of origin. The applicable section 301 decisions require subject merchandise to be admitted to FTZs in privileged foreign status (19 CFR 146.41).

Public comment is invited from interested parties. Submissions shall be addressed to the Board's Executive Secretary and sent to: ftz@trade.gov. The closing period for their receipt is July 8, 2024.

A copy of the notification will be available for public inspection in the “Online FTZ Information System” section of the Board's website.

For further information, contact Diane Finver at Diane.Finver@trade.gov.

Dated: May 23, 2024.
Elizabeth Whiteman,
Executive Secretary.

[FR Doc. 2024-11735 Filed 5-28-24; 8:45 am]

BILLING CODE 3510-DS-P